DEPARTMENT OF DEFENSE

Office of the Secretary

[Docket ID: DOD-2026-OS-0497]

Proposed Collection; Comment Request

AGENCY: Pentagon Force Protection Agency (PFPA), Department of Defense.

ACTION: 60-Day information collection notice.

SUMMARY: In compliance with the Paperwork Reduction Act of 1995, the PFPA announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 4, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to 9000 Defense Pentagon, 5B890 Washington, DC 20301 ATTN: Mr. Kumeit Salman or call 703-697-8109.

SUPPLEMENTARY INFORMATION:

Title; Associated Form; and OMB Number: Pentagon Facilities Access Control System: DD Form 2249, Pentagon Access Enrollment Form and Visitor Management System (VMS); OMB Control Number 0704-0648.

Needs and Uses: The information will be used by the Pentagon Pass Office to conduct a NCIC check of all members of the public 18 years and older that request access to the Pentagon or a Pentagon facility. The method for collecting the required information varies depending on the status of the individual making the request and the length of time that access is required.

Affected Public: Individuals or households.

DD Form 2249, Pentagon Access Enrollment Form

Annual Burden Hours: 7,867.

Number of Respondents: 47,200.

Responses per Respondent: 1.

Annual Responses: 47,200.

Average Burden per Response: 10 minutes.

PFPA Visitor Management System—Registration Portal

Annual Burden Hours: 24,617 hours.

Number of Respondents: 211,000.

Responses per Respondent: 1.

Annual Responses: 211,000.

Average Burden per Response: 7 minutes.

Total

Annual Burden Hours: 32,484.

Number of Respondents: 258,200.

Responses per Respondent: 1.

Annual Responses: 258,200.

Average Burden per Response: 8.5.

Frequency: On occasion.

Use of the Information

The information will be used by the Pentagon Pass Office to conduct an NCIC check of all members of the public 18 years and older who request access to the Pentagon or a Pentagon facility. The method for collecting the required information varies depending on the status of the individual making the request and the length of time that they require access.

A. Privilege Management Program (PMP), DD Form 2249, Pentagon Access Enrollment Form.

a. Personnel who require swipe access to the Pentagon or any of its leased facilities must enroll in the PMP. To enroll, personnel must electronically submit the DD Form 2249, Pentagon Access Enrollment Form to gain access via a Personal Identity Verification (PIV) Card or Common Access Card (CAC). The electronic submission is mandatory. The DD Form 2249 was a paper-based form that was printed and physically carried to the pass office for enrollment of the person's CAC into PMP. As of November 1, 2024, PFPA requires the DD Form 2249 be submitted electronically by Authorizing Officials (AOs), using the Access Management Portal (AMP), located at https://access.pfpa.mil/. The same information contained on the hardcopy is now electronically submitted, stored, and processed using AMP and is commonly referred to as an “e2249” authorization.

b. For personnel who do not meet the criteria for a PIV card or a CAC but require swipe access into the Pentagon or any of its leased facilities, DD Form 2249 can also be used to request access.

B. Visitor Management System (VMS) Registration Portal

a. The VMS is a component of the aforementioned PMP. Personnel who do not have swipe access into the Pentagon or its leased facilities are deemed visitors and must be registered by a sponsor. Sponsors initiate visits by submitting the visitor's name and email address at https://visitorsponsor.pfpa.mil/. The visitor will then receive a link via the email provided, allowing the visitor to navigate to the VMS Registration Portal and complete the application for adjudication. Once it is complete and PFPA reviews the submission, the visitor and sponsor will receive a system-generated email on the adjudication decision. The system can also be used to request issuance of a Pentagon Facility Alternate Credential (PFAC).

C. Alternative Methods for Submission

a. Visitors may provide the required information in the body of a properly protected email when technical limitations prevent them from accessing the Visitor Management System's Web Portal. Pentagon Pass Office personnel will enter this information in the Visitor Management Web Portal.

Dated: March 2, 2026.
Aaron T. Siegel,
Alternate OSD Federal Register Liaison Officer, Department of Defense.

[FR Doc. 2026-04290 Filed 3-3-26; 8:45 am]

BILLING CODE 6001-FR-P